DEPARTMENT OF ENERGY

Federal Energy Regulatory Commission

[Docket Nos. RP04-155-000 and RP03-398-000]

Northern Natural Gas Company; Notice of Technical Conference

April 6, 2004.

Take notice that a technical conference will be held on Tuesday, April 20, 2004, from 10 a.m. to 5 p.m., in a room to be designated at the offices of the Federal Energy Regulatory Commission, 888 First Street, NE., Washington, DC 20426.

The purpose of the conference is to address Northern Natural Gas Company's (Northern) proposal to lower the acceptable levels of oxygen and carbon dioxide in gas received on its system. The technical conference was ordered in a February 27, 2004, order ¹ accepting and suspending a filing by Northern to increase its rates and make various changes to its tariff.

¹ Northern Natural Gas Co., 106 FERC ¶ 61,195 (2004).

All interested persons are permitted to attend. To assist Staff, attendees are requested to e-mail Eric.Winterbauer@ferc.gov stating your name, the name of the entity you represent, the names of the persons who will be accompanying you, and a telephone number where you can be reached. Northern should be prepared to discuss its proposal, including the rationale for its proposal and any possible ramifications. Persons protesting aspects of Northern's proposal should be prepared to answer questions and discuss alternatives.

The issues to be discussed will include, but are not limited to:

A. Why does Northern need the more stringent gas quality standards it has proposed in this case?

1. What is the current status of Northern with regard to problems caused by the quality of gas, e.g. have there been ruptures due to corrosion? If so, when did they occur? Has Northern had to issue any OFOs due to corrosive conditions on the pipeline? Are there other Federal regulations affecting its decision to seek more stringent standards?

2. What are the corresponding carbon dioxide and oxygen standards on interconnecting pipelines?

3. Why is Northern proposing the changes at this specific time?

B. How did Northern decide upon the specifics of its gas quality proposal?

1. Why change the currently effective carbon dioxide level from 2 percent to less than or equal to 1 percent, as opposed to some other level? Why change the oxygen tolerance level from .2 percent to less than or equal to .02 percent, as opposed to some other level?

2. What reports or studies were used in making these determinations? (Please provide any such reports.)

3. What alternatives to these levels did Northern consider?

C. What effects will Northern's proposal have on entities upstream or downstream of Northern, including interconnecting pipelines or local distribution companies (financial, operational, or otherwise)?

D. What alternatives are there to Northern's proposal (operational or otherwise)?

Linda Mitry,
Acting Secretary.

[FR Doc. E4-805 Filed 4-12-04; 8:45 am]

BILLING CODE 6717-01-P